DEPARTMENT OF LABOR

Employment and Training Administration

[TA-W-71,801]

Nautilus, Inc., Currently Known as Med-Fit Systems Incorporated, Commercial Division, Including On-Site Workers From Select Staffing, Independence, VA; Amended Certification Regarding Eligibility To Apply for Worker Adjustment Assistance

In accordance with section 223 of the Trade Act of 1974, as amended (“Act”), 19 U.S.C. 2273, the Department of Labor issued a Certification of Eligibility to Apply for Worker Adjustment Assistance on December 29th, 2009, applicable to workers of Nautilus, Inc., Commercial Division, including on-site leased workers from Select Staffing, Independence, Virginia. The notice was published in the Federal Register on February 16th, 2010 (75 FR 7032).

At the request of the State agency, the Department reviewed the certification for workers of the subject firm. The workers produced cardio and strength fitness equipment.

New information shows that Nautilus, Inc. was sold in September 2009 and is currently known as Med-Fit Systems, Incorporated. Some workers separated from employment at the subject firm had their wages reported under a separate unemployment insurance (UI) tax account under the name Med-Fit Systems, Incorporated.

Accordingly, the Department is amending this certification to properly reflect this matter.

The intent of the Department's certification is to include all workers of the subject firm who were adversely affected by increased imports of cardio and strength fitness equipment.

The amended notice applicable to TA-W-71,801 is hereby issued as follows:

All workers of Nautilus, Inc., currently known as Med-Fit Systems Incorporated, Commercial Division, Independence, Virginia, who became totally or partially separated from who became totally or partially separated from employment on or after July 22, 2008, through December 29, 2011, and all workers in the group threatened with total or partial separation from employment on date of certification through two years from the date of certification, are eligible to apply for adjustment assistance under Chapter 2 of Title II of the Trade Act of 1974, as amended.

Signed in Washington, DC, this 19th day of April 2010.
Michael W. Jaffe,
Certifying Officer, Division of Trade Adjustment Assistance.

[FR Doc. 2010-9930 Filed 4-28-10; 8:45 am]

BILLING CODE 4510-FN-P